DEPARTMENT OF LABOR

Employment and Training Administration

[TA-W-62,373]

Mahle Industries, Inc., Including On-Site Leased Workers of Manpower, Inc., Holland, MI; Amended Certification Regarding Eligibility To Apply for Worker Adjustment Assistance and a Negative Determination Regarding Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and a Negative Determination Regarding Eligibility to Apply for Alternative Trade Adjustment Assistance on November 27, 2007, applicable to workers of Mahle Industries, Inc., Holland, Michigan. The notice was published in the Federal Register on December 11, 2007 (72 FR 70345).

At the request of the State agency, the Department reviewed the certification for workers of the subject firm. The workers are engaged in the production of automotive engine components for turbochargers.

The review of the investigation record shows that the Department inadvertently excluded from the certification on-site leased workers from Manpower, Inc.

Accordingly, the Department is amending this certification to include on-site leased workers from Manpower, Inc. The workers of Manpower, Inc. at the Holland, Michigan site are sufficiently under the control of Mahle Industries, Inc. to be considered leased workers.

The amended notice applicable to TA-W-62,373 is hereby issued as follows:

“All workers of Mahle Industries, Inc., including on-site leased workers of Manpower, Inc., Holland, Michigan, who became totally or partially separated from employment on or after October 24, 2006, through November 27, 2009, are eligible to apply for adjustment assistance under section 223 of the Trade Act of 1974” and I further determine that all workers of Mahle Industries, Inc., including on-site leased workers of Manpower, Inc., Holland, Michigan are denied eligibility to apply for alternative trade adjustment assistance under section 246 of the Trade Act of 1974.

Signed at Washington, DC, this 14th day of March 2008.
Elliott S. Kushner,
Certifying Officer, Division of Trade Adjustment Assistance.

[FR Doc. E8-6114 Filed 3-25-08; 8:45 am]

BILLING CODE 4510-FN-P